DEPARTMENT OF INTERIOR

National Park Service

Draft Legislative Environmental Impact Statement on the Harvest of Glaucous-Winged Gull Eggs by the Huna Tlingit in Glacier Bay National Park

AGENCY: National Park Service, Interior.

ACTION: Notice of Availability of the Draft Legislative Environmental Impact Statement on the Harvest of Glaucous-Winged Gull Eggs by the Huna Tlingit in Glacier Bay National Park.

SUMMARY: The National Park Service announces the availability of a Draft Legislative Environmental Impact Statement (LEIS) for the Harvest of Glaucous-Winged Gull Eggs by the Huna Tlingit in Glacier Bay National Park. The document describes and analyzes the environmental impacts of a preferred alternative and one additional action alternative for managing a limited harvest of glaucous-winged gull eggs. A no action alternative is also evaluated. This notice announces the public comment period, the locations of public hearings, and solicits comments on the draft LEIS.

DATES: Comments on the draft LEIS must be received no later than March 6, 2009.

ADDRESSES: Written comments on the draft LEIS should be submitted to Mary Beth Moss, Project Manager, Glacier Bay National Park and Preserve, PO Box 140, Gustavus, AK 99829.

Submit comments electronically through the NPS Planning, Environment and Public comment system (PEPC) at http://parkplanning.nps.gov. The draft LEIS may be viewed and retrieved at this Web site as well. Hard copies of the draft LEIS are available by request from the aforementioned address. See SUPPLEMENTARY INFORMATION for the locations of public hearings.

FOR FURTHER INFORMATION CONTACT: Mary Beth Moss, Project Manager, Glacier Bay National Park and Preserve, Telephone: 907 317-1270.

SUPPLEMENTARY INFORMATION: The purpose of the draft LEIS is to analyze the effects of the limited collection of glaucous-winged gull eggs within Glacier Bay National Park by Hoonah Indian Association (HIA; the federally recognized government of the Huna Tlingit) tribal members if legislation authorizing collection were enacted. Glacier Bay is the traditional homeland of the Huna Tlingit. The Huna Tlingit harvested eggs at gull rookeries in Glacier Bay, including the large nesting site on South Marble Island, prior to the park being established in 1925. Egg collection was curtailed in the 1960s. The Migratory Bird Treaty Act prohibited the harvest of gull eggs, and by statute and NPS regulations, harvest is precluded within park boundaries.

In the late 1990s, at the behest of tribal leaders, the NPS agreed to explore ways to authorize this important cultural tradition. Section 4 of the Glacier Bay National Park Resource Management Act of 2000 (Pub. L. 106-455) requires the Secretary of Interior, in consultation with local residents, to assess whether sea gull eggs can be collected in the park on a limited basis without impairing the biological sustainability of the gull population in the park. The Act further requires that if the study determines that the limited collection of sea gull eggs can occur without impairing the biological sustainability of the gull population in the park, the Secretary shall submit recommendations for legislation to Congress. Sea gull eggs cannot be collected absent legislation.

NPS commissioned ethnographic and biological studies to inform the analysis included in this draft LEIS. The draft LEIS considers a reasonable range of alternatives based on project objectives, park resources and values, and public input that include:

Alternative 1 (No Action): This alternative would not propose legislation to authorize the harvest of glaucous-winged gull eggs in Glacier Bay National Park. Glaucous-winged gulls would continue to breed in Glacier Bay without human disturbance.

Alternative 2: This alternative would propose legislation to authorize harvest of glaucous-winged gull eggs at up to two designated locations on a single pre-selected date on or before June 9 of each year. Approximately 12 tribal members would have the opportunity to harvest eggs each year.

Alternative 3 (NPS Preferred Alternative): Alternative 3 would propose legislation to authorize harvest of glaucous-winged gull eggs at several designated locations in Glacier Bay National Park on two separate dates. The first harvest would occur on or before June 9th; a second harvest at the same sites would occur within nine days of the first harvest. The logistics of vessel transportation would limit the number of sites that could be visited in a given day. Depending on weather and other conditions, as well as the sites selected, harvest would likely occur at three to four sites. Approximately 24 tribal members would have the opportunity to harvest eggs each year.

Both action alternatives would propose legislation authorizing the management of harvest activities under the guidelines of a harvest management plan cooperatively developed by the NPS and the HIA. NPS would conduct monitoring activities to ensure that park resources and values were not impacted. The Superintendent would retain the authority to close gull colonies to harvest.

Public hearings are scheduled in Alaska at the following locations: Anchorage, Juneau, Gustavus, and Hoonah, Alaska. The specific dates and times of the meetings and public hearings will be announced in local media.

Before including your address, phone number, e-mail address, or other personal identifying information in your comment, you should be aware that your entire comment -including your personal identifying information—may be made publicly available at any time. While you can ask us to withhold your personal identifying information from public review we cannot guarantee that we will be able to do so. We will always make submissions from organizations or businesses, and from individuals identifying themselves as representatives of or officials of organizations or businesses, available for public inspection in their entirety.

Dated: October 17, 2008.
Sue E. Masica,
Regional Director, Alaska.

[FR Doc. E8-30133 Filed 12-18-08; 8:45 am]

BILLING CODE 4312-HX-P